DEPARTMENT OF ENERGY

Federal Energy Regulatory Commission

Combined Notice of Filings #1

Take notice that the Commission received the following electric corporate filings:

Docket Numbers: EC20-7-000.

Applicants: Dougherty County Solar LLC.

Description: Application for Authorization Under Section 203 of the Federal Power Act, et al. of Dougherty County Solar LLC.

Filed Date: 10/4/19.

Accession Number: 20191004-5174.

Comments Due: 5 p.m. ET 10/25/19.

Take notice that the Commission received the following electric rate filings:

Docket Numbers: ER20-43-000.

Applicants: PJM Interconnection, L.L.C.

Description: § 205(d) Rate Filing: Original ISA, SA No. 5479, Queue No. AC1-145 to be effective 9/5/2019.

Filed Date: 10/7/19.

Accession Number: 20191007-5081.

Comments Due: 5 p.m. ET 10/28/19.

Docket Numbers: ER20-44-000.

Applicants: PJM Interconnection, L.L.C.

Description: § 205(d) Rate Filing: Original ISA, SA No. 5481, Queue No. AC1-065/AC2-110/AD2-039 to be effective 9/5/2019.

Filed Date: 10/7/19.

Accession Number: 20191007-5107.

Comments Due: 5 p.m. ET 10/28/19.

Take notice that the Commission received the following qualifying facility filings:

Docket Numbers: QF20-10-000.

Applicants: Eco Green Generation LLC.

Description: Form 556 of Eco Green Generation LLC [Clean Power #1].

Filed Date: 10/2/19.

Accession Number: 20191002-5225.

Comments Due: None-Applicable.

Docket Numbers: QF20-12-000.

Applicants: Eco Green Generation LLC.

Description: Form 556 of Eco Green Generation LLC [Clean Power #2].

Filed Date: 10/3/19.

Accession Number: 20191003-5209.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2019.
Nathaniel J. Davis, Sr.,
Deputy Secretary.

[FR Doc. 2019-22297 Filed 10-10-19; 8:45 am]

BILLING CODE 6717-01-P